DEPARTMENT OF HEALTH AND HUMAN SERVICES

Agency for Toxic Substances and Disease Registry

[ATSDR-229]

Public Health Assessments and Health Consultations Completed October 2006-December 2006

AGENCY: Agency for Toxic Substances and Disease Registry (ATSDR), Department of Health and Human Services (HHS).

ACTION: Notice.

SUMMARY: This notice announces those sites for which ATSDR has completed public health assessments and health consultations during the period from October 1, 2006, through December 31, 2006. This list includes sites that are on or proposed for inclusion on the National Priorities List (NPL) and includes sites for which assessments or consultations were prepared in response to requests from the public.

FOR FURTHER INFORMATION CONTACT: William Cibulas, Jr., PhD, Director, Division of Health Assessment and Consultation, Agency for Toxic Substances and Disease Registry, 1600 Clifton Road, NE., Mailstop E-32, Atlanta, Georgia 30333, telephone (404) 498-0007.

SUPPLEMENTARY INFORMATION: The most recent list of completed public Federal Register on December 14, 2006 [71 FR 75254]. This announcement is the responsibility of ATSDR under the regulation “Public Health Assessments and Health Effects Studies of Hazardous Substances Releases and Facilities” [42 CFR Part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments and health consultations are available for public inspection at the ATSDR Records Center, 1825 Century Boulevard, Atlanta, Georgia (not a mailing address), between 8 a.m. and 4:30 p.m., Monday through Friday except legal holidays. Public health assessments and health consultations are often available for public review at local repositories such as libraries in corresponding areas. Many public health assessments and health consultations are available through ATSDR's Web site at http://www.atsdr.cdc.gov/HAC/PHA/.

In addition, the completed public health assessments are available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between October 1, 2006, and December 31, 2006, public health assessments were issued for the sites listed below:

NPL and Proposed NPL Sites

Alaska

Elmendorf Air Force Base—(PB2007-104845); December 21, 2006.

Virginia

Naval Support Facility (NSF) Dahlgren (a/k/a Naval Surface Warfare Center—Dahlgren)—(PB2007-100956); October 11, 2006.

Non-NPL Petitioned Sites

South Carolina

Admiral Homes Appliances—(PB2007-102021); November 13, 2006.

Health Consultations Completed or Issued

Between October 1, 2006, and December 31, 2006, health consultations were issued for the sites listed below:

Alabama

Anniston PCB Site—Updated Assessment of PCB Exposures in Anniston, AL; October 16, 2006.

Arizona

Aero Dyne Corporation (Aero Dyne)—District 4 Lone Butte Memorial Area; November 16, 2006.

Arkansas

Remediation of U.S. Forgecraft Corporation Site—95 South 3rd Street; November 27, 2006.

California

Zeneca/Campus Bay—Results of Exposure Investigation of Dust Sampling in Building 240; December 15, 2006.

Colorado

Blood Lead Levels in Children in the Lincoln Park Neighborhood; November 16, 2006.

Blood Levels in the Canon City Vicinity—Exposure Investigation Report; November 16, 2006.

Captain Jack Mill—Evaluation of Exposure of Mine Contaminants through the Surface Soil and Groundwater Pathways; December 12, 2006.

Lead in Dust in Homes in the Lincoln Park Neighborhood; November 16, 2006.

Lead in Indoor Dust, Outdoor Soil, and Blood of Lincoln Park Neighborhood Residents—Exposure Investigation Report; November 16, 2006.

Schlage Lock Company—Evaluation of Tetrachloroethylene Vapor Intrusion into Buildings Located Above a Contaminated Aquifer; November 30, 2006.

Standard Mine NPL Site—Evaluation of Potential Public Health Impact of Surface Water Contamination; November 13, 2006.

Connecticut

Contract Plating—Evaluation of Environmental Data; November 15, 2006.

Florida

Keene Road Landfill—Lake Jewel Community; November 1, 2006.

Louisiana

Cleve Reber Superfund Site—Post-Hurricane Groundwater Sampling Evaluation; November 1, 2006.

Hurricane Response Sampling Assessment for Madisonville Creosote Works; October 11, 2006.

Hurricane Response Sampling Assessment for Old Inger Oil Refinery; October 11, 2006.

Mallard Bay Landing Bulk Plant—Post Hurricane Soil Sampling Evaluation; October 26, 2006.

Plaquemine Area Vinyl Chloride Groundwater Plume; December 11, 2006.

Massachusetts

Former Zonolite Facility—Wemelco Way; December 15, 2006.

Michigan

Bendix Corporation Allied Automotive—Groundwater Discharge to Lake Michigan; December 22, 2006.

Former Quincy Smelter Site—Review of Activity-Based Sampling on the Hancock/Ripley Trail; November 27, 2006.

New York

Endicott Area Investigation—Public Health Implications of Exposures to Low-Level Volatile Organic Compounds in Public Drinking Water; November 30, 2006.

International Business Machines Corporation (IBM)—Historical Outdoor Air Emissions in the Endicott Area; November 17, 2006.

North Carolina

Sigmon's Septic Tank Service Site—Review of Groundwater Data (2005 EPA Delination Investigation); October 12, 2006.

Ohio

Brush Wellman Elmore Plant (a/k/a Brush Wellman Incorporated); Revised December 1, 2006.

Former Chevron Refinery (Soil Vapor Intrusion in Hooven, Ohio); November 27, 2006.

Oregon

National Energy Technology Laboratory—Albany (Formerly Known As: Albany Research Center); October 25, 2006.

Rhode Island

Providence High School Parcel B (a/k/a Former Gorham Site); December 4, 2006.

Virginia

Chesapeake Products Site; November 27, 2006.

Washington

Apple Valley Elementary School—Evaluation of Soil Contamination; November 3, 2006.

Dated: March 14, 2007.
Kenneth Rose,
Acting Director, Office of Policy, Planning, and Evaluation, National Center for Environmental Health/Agency for Toxic Substances and Disease Registry.

[FR Doc. E7-5029 Filed 3-19-07; 8:45 am]

BILLING CODE 4163-70-P